DEPARTMENT OF COMMERCE

National Oceanic and Atmospheric Administration

[I.D. 040402A]

New England Fishery Management Council; Public Meetings

AGENCY: National Marine Fisheries Service (NMFS), National Oceanic and Atmospheric Administration (NOAA), Commerce.

ACTION: Notice of public meeting.

SUMMARY: The New England Fishery Management Council (Council) is scheduling a public meeting of its Scallop Advisory Panel and Plan Development Team (PDT) in April, 2002. Recommendations from the Committee will be brought to the full Council for formal consideration and action, if appropriate.

DATES: The meeting will be held on Thursday, April 25, 2002, at 10:00 a.m.

ADDRESSES: The meeting will be held at the Sheraton Inn Providence Airport, 1850 Post Road, Warwick, RI 02886; telephone: 401-738-4000.

FOR FURTHER INFORMATION CONTACT: Paul J. Howard, Executive Director, New England Fishery Management Council 978-465-0492. Requests for special accommodations should be addressed to the New England Fishery Management Council, 50 Water Street, Newburyport, MA 01950.

SUPPLEMENTARY INFORMATION: The Advisory Panel will meet with the PDT to review and discuss the Draft Amendment 10 alternatives and impact analyses. The Advisory Panel meeting will begin by selecting a chair and vice-chair, followed by the joint meeting with the PDT. The Council will hold a follow-up meeting after a few weeks for the Advisory Panel to develop recommendations for preferred and non-preferred alternatives.

Although non-emergency issues not contained in this agenda may come before this group for discussion, those issues may not be the subject of formal action during this meeting. Action will be restricted to those issues specifically listed in this notice and any issues arising after publication of this notice that require emergency action under section 305(c) of the Magnuson-Stevens Fishery Conservation and Management Act, provided the public has been notified of the Council's intent to take final action to address the emergency.

Special Accommodations

This meeting is physically accessible to people with disabilities. Requests for sign language interpretation or other auxiliary aids should be directed to Paul J. Howard (see ADDRESSES) at least 5 days prior to the meeting date.

Dated: April 4, 2002.
Richard W. Surdi,
Acting Director, Office of Sustainable Fisheries, National Marine Fisheries Service.

[FR Doc. 02-8555 Filed 4-8-02; 8:45 am]

BILLING CODE 3510-22-S